SECURITIES AND EXCHANGE COMMISSION

Sunshine Act Meetings

TIME AND DATE: Notice is hereby given, pursuant to the provisions of the Government in the Sunshine Act, Pub. L. 94-409, that the Securities and Exchange Commission will hold an Open Meeting on Wednesday, December 13, 2023 at 10:00 a.m. (ET).

PLACE: The meeting will be held in Auditorium LL-002 at the Commission's headquarters, 100 F Street, NE, Washington, DC 20549 and will be simultaneously webcast on the Commission's website at www.sec.gov.

STATUS: This meeting will begin at 10:00 a.m. (ET) and will be open to the public. Seating will be on a first-come, first-served basis. Visitors will be subject to security checks. The meeting will be webcast on the Commission's website at www.sec.gov.

MATTERS TO BE CONSIDERED:

1. The Commission will consider whether to adopt amendments to the standards applicable to covered clearing agencies for U.S. Treasury securities regarding their membership requirements and risk management and whether to adopt amendments to the broker-dealer customer protection rule regarding margin held at covered clearing agencies for U.S. Treasury securities.

2. The Commission will consider whether to approve the 2024 Final Budget and Accounting Support Fee for the Public Company Accounting Oversight Board

CONTACT PERSON FOR MORE INFORMATION: For further information and to ascertain what, if any, matters have been added, deleted or postponed, please contact Vanessa A. Countryman from the Office of the Secretary at (202) 551-5400.

Authority: 5 U.S.C. 552b.

Dated: December 6, 2023.
Vanessa A. Countryman,
Secretary.

[FR Doc. 2023-27174 Filed 12-7-23; 11:15 am]

BILLING CODE 8011-01-P